DEPARTMENT OF THE TREASURY

Customs Service

19 CFR Parts 4, 18, 122, 123, 144, and 146

[T.D. 00-22]

Technical Corrections Relating to Customs Forms

AGENCY: Customs Service, Treasury.

ACTION: Final rule.

SUMMARY: This document amends the Customs Regulations by correcting references to certain Customs Forms that have either been eliminated, substantially revised, or consolidated with another Customs Form. These corrections are made to update the Customs Regulations so that the trade community and vessel operators can be aware of current Customs information requirements.

EFFECTIVE DATE: March 29, 2000.

FOR FURTHER INFORMATION CONTACT: For legal questions: Larry Burton, Entry Procedures & Carriers Branch, Office of Regulations and Rulings, (202) 927-1287.

For operational questions: Robert Watt, Office of Field Operations, (202) 927-3654, or Kim Nott, Office of Field Operations, (202) 927-1364.

SUPPLEMENTARY INFORMATION:

Background

This document amends the Customs Regulations by correcting references to certain Customs Forms (CFs) that have either been eliminated, substantially revised, or consolidated with another Customs Form. These corrections are made to update the Customs Regulations so that the trade community and vessel operators can be aware of current Customs information requirements.

Elimination of Master's Oath Requirement (CF 1300)

The CF 1300 (Master's Oath of Vessel in Foreign Trade) was a multi-purpose form that had to be completed for each entrance and clearance of a vessel, including preliminary entry and the granting of a permit to proceed, and contained the sworn statement of the master as to the contents of documents and manifests filed with Customs for vessels over five net tons engaged in trade or commercial use. The statutory basis (19 U.S.C. 282) for the Master's Oath requirement was repealed by section 690(a) of the North American Free Trade Agreement Implementation Act (Pub. L. 103-182, Title VI, section 690(a)(2), 107 Stat. 2222) without replacement. Nine sections in the Customs Regulations (19 CFR 4.7(a), 4.20(f), 4.61(a), 4.63(a)(1), 4.75(a) and (b), 4.81(e), (g)(1) and (2), 4.84(c)(1), 4.85(b) and (c), and 4.87(b), (d), and (g)) provide for the submission of the CF 1300 or otherwise reference the master's oath for purposes of meeting Customs entry requirements. Accordingly, the applicable texts of these regulatory provisions are amended to remove the reference.

Elimination of Customs Form 7512-C

The CF 7512-C (Transportation Entry and Manifest of Goods) was a multiple-copy, data-card form used by Customs and the trade to track in-bond movements of merchandise by means of a unique 9-digit number pre-printed on the card. This form was designed to speed cargo movement reporting by means of having one copy of the form stay with Customs for data input once the designated merchandise was picked up by the in-bond carrier; the other copy of the form accompanied the merchandise in transit, to be delivered to Customs at the port of destination. With the continued development of the Automated Manifest System (AMS) throughout the 1990s, which now tracks these types of in-bond cargo movements, the practical use of the CF 7512-C tracking system became obsolete, and, in fact, this form has been eliminated. Some fifteen sections in the Customs Regulations (19 CFR 4.81(g)(1), 18.2(b)-(d), 18.3(b), 18.7(a), 18.13(b), 122.83(e), 122.92(a)(2) and (b)(1) and (2), 122.93(a), 122.94(a), 122.119(c), 122.120(d) and (i), 123.42(c) and (d), 123.64(b), 144.37(a), and 146.68(b)) provide for the submission of the CF 7512-C for purposes of meeting Customs entry requirements. Accordingly, the applicable texts of these regulatory provisions are amended to remove the reference.

New Customs Form 1300

Two Customs Forms pertaining to vessel operators (the CF 1301—General Declaration; and the CF 1378—Clearance of Vessel to a Foreign Port) recently have been combined into a new form designated as CF 1300 (Vessel Entrance or Clearance Statement). Accordingly, all references to these two forms in the Customs Regulations (19 CFR Chapter I) need to be amended. In Part 4 of the Customs Regulations (19 CFR part 4) there are some thirteen sections of the Customs Regulations (19 CFR 4.7(a), 4.9(b), 4.34(e), 4.61(a), 4.75(a) and (b), 4.81(e), (g)(1) and (2), 4.84(a) and (d), 4.85(a) through (c), 4.87(b) through (d) and (f), 4.89(b) and (d), 4.90(b), 4.91(a) and (b), and 4.99(a)) that require submission of one or both of these Customs Forms for purposes of meeting Customs vessel entry requirements. The applicable texts of these regulatory provisions are amended to remove references to the CF 1301 and CF 1378. Further, in tandem with the elimination of the old CF 1300 (see discussion above), the applicable texts of the identified sections in part 4 of the Customs Regulations are amended to correct references to the new CF 1300.

Other Changes

Section 4.81(g) of the Customs Regulations contains simplified procedural provisions regarding the coastwise movement of LASH-type barges. The fourth sentence of paragraph (g)(2) states:

Where a complete manifest is not available at the port of lading, the permit to proceed must include a statement that a complete manifest and shipper's export declaration for each barge will be filed at the port where the barge will be taken aboard a barge-carrying vessel, and that port must be identified in the statement.

It has come to Customs attention that this requirement is irrelevant to LASH-type barges and merely serves to cause confusion at ports. Accordingly, this sentence is removed in this document.

Paperwork Reduction Act

The collection of information contained in this final rule document has previously been reviewed and approved by the Office of Management and Budget (OMB) under OMB control numbers 1515-0060 and 1515-0062. These amendments do not make any substantive or substantial change to the existing approved information collections; they merely require vessel operators to submit the same vessel information on a different form.

An agency may not conduct or sponsor, and a person is not required to respond to, a collection of information unless the collection of information displays a valid control number.

Inapplicability of Public Notice and Comment Requirements and Delayed Effective Date Requirements; The Regulatory Flexibility Act and Executive Order 12866

Inasmuch as these amendments either substitute one Customs Form reference for another or otherwise advise the public that certain Customs Forms are no longer used and that a certain procedural requirement is no longer required, which are matters pertaining to agency procedure, pursuant to 5 U.S.C. 553(b)(A), the notice and public procedure requirements of the Administrative Procedures Act (5 U.S.C. 553) are not applicable. For the same reason, these amendments are not subject to the delayed effective date requirement of 5 U.S.C. 553(d). Since this document is not subject to the notice and public procedure requirements of 5 U.S.C. 553, it is not subject to the regulatory analysis or other requirements of the Regulatory Flexibility Act (5 U.S.C. 601 et seq.). This amendment does not meet the criteria for a “significant regulatory action” as specified in E.O. 12866.

Drafting Information

The principal author of this document was Gregory R. Vilders, Attorney, Regulations Branch. However, personnel from other offices participated in its development.

List of Subjects

19 CFR Part 4

Administrative practice and procedure, Cargo vessels, Computer technology, Customs duties and inspection, Entry, Imports, Maritime carriers, Merchandise, Reporting and recordkeeping requirements, Vessels.

19 CFR Part 18

Bonded transportation, Common carriers, Customs duties and inspection, Exports, Foreign trade statistics, Freight, Imports, Reporting and recordkeeping requirements, Surety bonds, Transportation, Vehicles, Vessels.

19 CFR Part 122

Administrative practice and procedure, Air carriers, Aircraft, Air transportation, Baggage, Customs duties and inspection, Entry procedure, Foreign commerce and trade statistics, Freight, Imports, Reporting and recordkeeping requirements, Surety bonds.

19 CFR Part 123

Administrative practice and procedure, Aircraft, Common carriers, Customs duties and inspection, Entry of merchandise, Forms, Freight, Imports, International traffic, Motor carriers, Reporting and recordkeeping requirements, Vehicles, Vessels.

19 CFR Part 144

Customs duties and inspection, Reporting and recordkeeping requirements, Surety bonds.

19 CFR Part 146

Administrative practice and procedure, Customs duties and inspection, Entry, Exports, Foreign trade zones, Imports, Reporting and recordkeeping requirements, Surety bonds.

Amendments to the Regulations

Parts 4, 18, 122, 123, 144, and 146 of the Customs Regulations (19 CFR parts 4, 18, 122, 123, 144, and 146) are amended as set forth below:

PART 4—VESSELS IN FOREIGN AND DOMESTIC TRADES

1. The general authority citation for part 4, and the specific authority citations for §§ 4.7, 4.9, 4.20, 4.75, 4.81, 4.84, and 4.85, continue to read as follows:

Authority: 5 U.S.C. 301; 19 U.S.C. 66, 1431, 1433, 1434, 1624; 46 U.S.C. App. 3, 91.

* * * * *

Section 4.7 also issued under 19 U.S.C. 1581(a); 46 U.S.C. App. 883a, 883b;

* * * * *

Section 4.9 also issued under 42 U.S.C. 269;

* * * * *

Section 4.20 also issued under 46 U.S.C. 2107(b), 8103, 14306, 14502, 14511, 14512, 14513, 14701, 14702; 46 U.S.C. App. 121, 128;

* * * * *

Section 4.75 also issued under 46 U.S.C. App. 91;

* * * * *

Section 4.81 also issued under 19 U.S.C. 1442, 1486; 46 U.S.C. 251, 883;

* * * * *

Section 4.84 also issued under 46 U.S.C. App. 883-1;

Section 4.85 also issued under 19 U.S.C. 1442, 1623;

* * * * *

2. Section 4.7(a) is amended:

a. In the fourth sentence by removing the words “Master's Oath on Entry of Vessel in Foreign Trade, Customs Form 1300, a General Declaration, Customs Form 1301” and adding, in their place, the words “Vessel Entrance or Clearance Statement, Customs Form 1300”;

b. In the fifth sentence by removing the words “item 17-22 of the General Declaration” and adding, in their place, the words “items 16, 18, and/or 19 of the Vessel Entrance or Clearance Statement”; and

c. In the last sentence by removing the words “13 of the General Declaration” and adding, in their place, the words “16 of the Vessel Entrance or Clearance Statement”.

3. Section 4.9(b) is amended by removing the words “Customs Form 1301 (General Declaration)” wherever they appear and adding, in their place, the words “Customs Form 1300 (Vessel Entrance or Clearance Statement)”.

4. Section 4.20 (f)(2) is amended by removing the words “master's oath” and adding, in their place, the words “Vessel Entrance or Clearance Statement”.

5. Section 4.34(e) is amended in the last sentence by removing the words “General Declaration, Customs Form 1301” and adding, in their place, the words “Vessel Entrance or Clearance Statement, Customs Form 1300”.

6. In § 4.61, paragraph (a) is amended by revising the first four sentences to read as follows; and paragraph (b) is amended in the fourth sentence by removing the words “Customs Form 1301 (General Declaration)” and adding, in their place, the words “Customs Form 1300 (Vessel Entrance or Clearance Statement)”:

§ 4.61 Requirements for clearance.

(a) Application for clearance. A clearance application for a vessel intending to depart for a foreign port must be made by filing Customs Form 1300 (Vessel Entrance or Clearance Statement) executed by the vessel master or other proper officer. The master, licensed deck officer, or purser may appear in person to clear the vessel, or the properly executed Customs Form 1300 may be delivered to the customhouse by the vessel agent or other personal representative of the master. Necessary information may also be transmitted electronically pursuant to a system authorized by Customs. Clearance will be granted by Customs either on the Customs Form 1300 or by approved electronic means. * * *

* * * * *

§ 4.63 [Amended]

7. Section 4.63(a)(1) is amended by removing the words “properly executed Master's Oath on Entry of Vessel in Foreign Trade” and adding, in their place, the words “Vessel Entrance or Clearance Statement”.

§ 4.75 [Amended]

8. In § 4.75:

a. Paragraph (a) is amended:

1. By removing the words “General Declaration, Customs Form 1301” and adding, in their place, the words “Vessel Entrance or Clearance Statement, Customs Form 1300”; and

2. By removing the last two sentences and adding, in their place, the following sentence:

* * * * *

(a) * * * The “Incomplete Manifest for Export” box in item 17 of the Vessel Entrance or Clearance Statement form must be checked.

* * * * *

b. Paragraph (b) is amended:

1. In the first sentence by removing the words “General Declaration on Customs Form 1301” and adding, in their place, the words “Vessel Entrance or Clearance Statement, Customs Form 1300”; and

2. By removing the second sentence.

9. Section 4.81 is amended by revising paragraphs (e) and (g)(1) and (2) to read as follows:

§ 4.81 Reports of arrivals and departures in coastwise trade.

* * * * *

(e) Before any foreign vessel departs in ballast, or solely with articles to be transported in accordance with § 4.93, from any port in the United States for any other such port, the master must apply to the port director for a permit to proceed by filing a Vessel Entrance or Clearance Statement, Customs Form 1300, in duplicate. If a vessel is proceeding in ballast and therefore the Cargo Declaration (Customs Form 1302) is omitted, the words “No merchandise on board” shall be inserted in item 16 of the Vessel Entrance or Clearance Statement. However, articles to be transported in accordance with § 4.93 must be manifested on the Cargo Declaration, as required by § 4.93(c). Three copies of the Cargo Declaration must be filed with the port director. When the port director grants the permit by making an appropriate endorsement on the Vessel Entrance or Clearance Statement (see § 4.85(b)), the duplicate copy, together with two copies of the Cargo Declaration covering articles to be transported in accordance with § 4.93, must be returned to the master. The traveling Crew's Effects Declaration, Customs Form 1304, and all unused crewmembers' declarations on Customs Form 5129 will be placed in a sealed envelope addressed to the appropriate Customs officer at the next intended domestic port and returned to the master for delivery. The master must execute a receipt for all unused crewmembers' declarations which are returned to him. Immediately upon arrival at the next United States port the master must report his arrival to the port director. He must make entry within 48 hours by filing with the port director the permit to proceed on the Vessel Entrance or Clearance Statement received at the previous port, a newly executed Vessel Entrance or Clearance Statement, a Crew's Effects Declaration of all unentered articles acquired abroad by crewmembers which are still on board, a Ship's Stores Declaration, Customs Form 1303, in duplicate of the stores remaining on board, both copies of the Cargo Declaration covering articles transported in accordance with § 4.93, and the document of the vessel. The traveling Crew's Effects Declaration and all unused crewmembers' declarations on Customs Form 5129 returned at the prior port to the master must be delivered by him to the appropriate Customs officer.

* * * * *

(g) * * *

(1) At the port where a LASH-type barge begins a coastwise movement with inward foreign cargo, a permit to proceed on the Vessel Entrance or Clearance Statement, Customs Form 1300, must be obtained. A single permit to proceed may be used for all the barges proceeding to the same port of unlading in the same town. An inward foreign manifest of the cargo in each barge, destined to the port of unlading shown on the permit to proceed, must be attached to each permit. At the port of unlading of the barge, report of arrival and entry must be made immediately upon arrival to the appropriate Customs officer by presentation of the permit to proceed, manifests, and a new Vessel Entrance or Clearance Statement, Customs Form 1300. If only part of the inward foreign cargo is unladen, a new permit to proceed must be obtained and the inward foreign manifests must be attached to it.

(2) At the port where a LASH-type barge begins a coastwise movement with export cargo, a permit to proceed on the Vessel Entrance or Clearance Statement, Customs Form 1300, must be presented to the appropriate Customs officer. A single permit to proceed may be presented for all the barges proceeding from the same port of lading in the same tow. Required shipper's export declarations for LASH-type barges must be filed at the port where the barges will be taken aboard a barge-carrying vessel. At the next port, a report of arrival must be made immediately upon arrival and entry must be made within 48 hours by presentation of the permit to proceed received upon departure from the prior port and a newly executed Vessel Entrance or Clearance Statement, Customs Form 1300.

* * * * *

§ 4.84 [Amended]

10. Section 4.84 is amended:

a. At paragraph (a) by removing the second and third sentences and adding, in their place, a new sentence to read as follows:

(a) * * * Such a clearance shall be granted in accordance with the applicable provisions of § 4.61 of the regulations of this part, including clearance of a vessel simultaneously engaged in one or more of the transactions listed in § 4.90(a)(4), (5), or (6) of this part.* * *

b. At paragraph (c)(1) in the last sentence by removing the words “Master's Oath on Entry of Vessel in Foreign Trade” and adding, in their place, the words “Vessel Entrance or Clearance Statement'; and

c. At paragraph (d) in the second sentence by removing the words “General Customs Declaration, Customs Form 1301” and adding, in their place, the words “Vessel Entrance or Clearance Statement, Customs Form 1300”.

11. In § 4.85, paragraph (a) is amended in the fourth sentence by removing the words “General Declaration, Customs Form 1301” and adding, in their place, the words “Vessel Entrance or Clearance Statement, Customs Form 1300'; and paragraphs (b) and (c) are revised to read as follows:

§ 4.85 Vessels with residue cargo for domestic ports.

* * * * *

(b)(1) Before a vessel proceeds from one domestic port to another with cargo or passengers on board as described in paragraph (a) of this section, the master must present to the director of such port of departure an application in triplicate on Customs Form 1300 for a permit to proceed to the next port. When a port director grants the permit on Customs Form 1300, the following legend must be endorsed on the form:

Port

Date

Permission is granted to proceed to the port named in item 12.

________

Signature and title

(2) The duplicate must be attached to the traveling manifest and the triplicate (the permit to proceed to be delivered at the next port) must be returned to the master, together with the traveling manifest and the vessel's document, if on deposit. If no inward foreign cargo or passengers are to be discharged at the next port, that fact must be indicated on Customs Form 1300 by inserting “To load only” in parentheses after the name of the port to which the vessel is to proceed. The traveling Crew's Effects Declaration covering articles acquired abroad by officers and members of the crew, together with the unused crewmembers' declarations prepared for such articles, will be placed in a sealed envelope addressed to the appropriate Customs officer at the next port and given to the master for delivery.

(c)(1) Upon the arrival of a vessel at the next and each succeeding domestic port with inward foreign cargo or passengers still on board, the master must immediately report its arrival and make entry within 48 hours. To make such entry, he must deliver to the port director the vessel's document, the permit to proceed (Customs Form 1300 endorsed in accordance with paragraph (b) of this section), the traveling manifest, and the traveling Crew's Effects Declaration (Customs Form 1304), together with the crewmembers' declarations received on departure from the previous port. The master must also present an abstract manifest consisting of a newly executed Vessel Entrance or Clearance Statement, Customs Form 1300, a Cargo Declaration, Customs Form 1302, and a Passenger List, Customs and Immigration Form I-418, in such number of copies as may be required for local Customs purposes, of any cargo or passengers on board manifested for discharge at that port, a Crew's Effects Declaration in duplicate of all unentered articles acquired abroad by officers and crewmembers which are still on board, a Ship's Stores Declaration, Customs Form 1303, in duplicate of the sea or ship's stores remaining on board, and if applicable, the Cargo Declaration required by § 4.86. If no inward foreign cargo or passengers are to be discharged, the Cargo Declaration or Passenger List may be omitted from the abstract manifest, and the following legend must be placed in item 15 of the Vessel Entrance or Clearance Statement:

Vessel on an inward foreign voyage with residue cargo/passengers for ____. No cargo or passengers for discharge at this port.

(2) The traveling manifest, together with a copy of the newly executed Vessel Entrance or Clearance Statement, will serve the purpose of a copy of an abstract manifest at the port where it is finally surrendered.

* * * * *

12. Section 4.87 is amended by revising paragraphs (b)-(d), (f), and (g) to read as follows:

§ 4.87 Vessels proceeding foreign via domestic ports.

* * * * *

(b) When applying for a clearance from the first and each succeeding port of lading, the master must present to the port director a Vessel Entrance or Clearance Statement, Customs Form 1300, in duplicate and a Cargo Declaration Outward With Commercial Forms, Customs Form 1302-A, in accordance with § 4.63(a), of all the cargo laden for export at that port. The Vessel Entrance or Clearance Statement must clearly indicate all previous ports of lading.

(c) Upon compliance with the applicable provisions of § 4.61, the port director will grant the permit to proceed by making the endorsement prescribed by § 4.85(b) on the Vessel Entrance or Clearance Statement, Customs Form 1300. One copy will be returned to the master, together with the vessel's document if on deposit. The traveling Crew's Effects Declaration, Customs Form 1304, together with any unused crewmembers' declarations, will be placed in a sealed envelope addressed to the appropriate Customs officer at the next domestic port and returned to the master.

(d) On arrival at the next and each succeeding domestic port, the master must immediately report arrival. He must also make entry within 48 hours by presenting the vessel's document, the permit to proceed on the Vessel Entrance or Clearance Statement, Customs Form 1300, received by him upon departure from the last port, a Crew's Effects Declaration, Customs Form 1304, in duplicate listing all unentered articles acquired aboard by officers and crew of the vessel which are still retained on board, and a Ship's Stores Declaration, Customs Form 1303, in duplicate of the stores remaining aboard. The master must also execute a Vessel Entrance or Clearance Statement. The traveling Crew's Effects Declaration, together with any unused crewmembers' declarations returned to the master at the prior port, will be delivered by him to the port director.

* * * * *

(f) If a complete Cargo Declaration Outward With Commercial Forms, Customs Form 1302-A (see § 4.63), and all required shipper's export declarations are not available for filing before departure of a vessel from any port, clearance on the Vessel Entrance or Clearance Statement, Customs Form 1300, may be granted in accordance with § 4.75, subject to the limitation specified in § 4.75(c).

(g) When the procedure outlined in paragraph (f) of this section is followed at any port, the owner or agent of the vessel must deliver to the director of that port within 4 business days after the vessel's clearance a Cargo Declaration Outward With Commercial Forms, Customs Form 1302-A (see § 4.63), and the export declarations to cover the cargo laden for export at that port.

13. Section 4.89 is amended:

a. At paragraph (b) by removing the words “General Declaration, Customs Form 1301” and adding, in their place, the words “on the Vessel Entrance or Clearance Statement, Customs Form 1300”; and

b. At paragraph (d) by removing the words “General Declaration, Customs Form 1301” and adding, in their place, the words “Vessel Entrance or Clearance Statement, Customs Form 1300”.

14. Section 4.90(b) is amended in the first sentence, by removing the number “1301” and adding, in its place, the number “1300”.

15. Section 4.91 is amended:

a. At paragraph (a) in the first sentence by removing within the parenthesis the number “1301” and adding, in its place, the number “1300”; and in the second sentence, by removing the number “1301” and adding, in its place, the number “1300”; and

b. At paragraph (b)(2) by removing the number “1378” and adding, in its place, the number “1300”.

16. In § 4.99, paragraph (a), introductory text, and paragraph (a)(2)(ii) are amended by removing the number “1301,”.

PART 18—TRANSPORTATION IN BOND AND MERCHANDISE IN TRANSIT

1. The general authority citation for part 18, and the specific authority citations for §§ 18.3, 18.7, and 18.13, continue to read as follows:

Authority: 5 U.S.C. 301; 19 U.S.C. 66, 1202 (General Note 20, Harmonized Tariff Schedule of the United States), 1551, 1552, 1553, 1623.

* * * * *

Section 18.3 also issued under 19 U.S.C. 1565;

* * * * *

Section 18.7 also issued under 19 U.S.C. 1557, 1646a;

* * * * *

Section 18.13 also issued under 19 U.S.C. 1498(a);

* * * * *

2. Section 18.2(b) is amended in the first sentence, by removing the words “and Customs control card (Customs Form 7512-C),”.

3. Section 18.2(c)(1) is amended:

a. In the first sentence, by removing the words “either the related Customs Form 7512-C (destination) or the” and adding, in their place, the words “any related”; and by removing the parenthetical words “(which cannot be used in conjunction with Customs Form 7512-C)”; and

b. In the second sentence, by removing the words “the Customs Form 7512-C (destination) shall accompany the first conveyance, and”.

4. Section 18.2(d) is amended in the first sentence, by removing in the parenthesis the words “and related Customs Form 7512-C (destination) or the” and adding, in their place, the words “any related”.

5. Section 18.3(b) is amended:

a. In the second sentence, by removing the words “and Customs Form 7512-C (destination)”; and

b. In the fourth sentence, by removing the words “and the related Customs Form 7512-C (destination)”.

6. Section 18.7(a) is amended in the first sentence, by removing in the parenthesis the words “and related Customs Form 7512-C (destination) or the” and adding, in their place, the words “any related”.

7. Section 18.13(b) is amended by removing the last sentence.

PART 122—AIR COMMERCE REGULATIONS

1. The authority citation for part 122 continues to read as follows:

Authority: 5 U.S.C. 301; 19 U.S.C. 58b, 66, 1433, 1436, 1448, 1459, 1590, 1594, 1623, 1624, 1644, 1644a.

2. Section 122.83(e) is amended:

a. In the first sentence, by removing the words “and a numbered Customs Form 7512-C shall be filled out and filed”;

b. In the last sentence, by removing the words “and Customs Form 7512-C (duplicate)”; and

c. By removing the second and third sentences.

3. Section 122.92 is amended by removing paragraph (a)(2) and redesignating paragraph (a)(3) as paragraph (a)(2).

4. Section 122.92(b)(1) is amended:

a. In the first sentence, by removing the words “, and the duplicate copy of Customs Form 7512-C”; and

b. By removing the last sentence.

5. Section 122.92(b)(2) is amended by removing the words “one copy of Customs Form 7512-C or” and adding, in their place, the word “any”.

6. Section 122.93(a) is amended in the first sentence, by removing the words “with Customs Form 7512-C attached”.

7. Section 122.94(a) is amended in the second sentence, by removing the words “, Customs Form 7512 with Customs Form 7512-C attached,” and adding, in their place, the words “and a Customs Form 7512”.

8. Section 122.119(c) is amended:

a. By removing in the introductory text, the words “, and two copies of Customs Form 7512-C (original and duplicate)”;

b. By adding a second sentence, at the end of the introductory text, as follows:

* * * * *

(c) * * * The permit copy is used and kept by Customs at the port of arrival.

* * * * *

c. By removing paragraphs (c)(1) and (2).

9. In § 122.120:

a. Paragraph (d) is amended in the introductory text, by removing the words “and a Customs Form 7512-C (original and duplicate)”;

b. Paragraph (d)(1) is amended in the first sentence, by removing the words “and Customs Form 7512-C (original)” and by removing the second sentence; and

c. Paragraph (i) is amended by removing the words “Forms 7512 and 7512-C” and adding, in their place, the words “Form 7512”.

PART 123—CUSTOMS RELATIONS WITH CANADA AND MEXICO

1. The general authority citation for part 123 continues to read as follows:

Authority: 19 U.S.C. 66, 1202 (General Note 20, Harmonized Tariff Schedule of the United States (HTSUS)), 1431, 1433, 1436, 1448, 1624.

* * * * *

2. Section 123.42(c)(1) is amended in the last sentence by removing the words “with the related Customs Form 7512-C (destination)”.

3. Section 123.42(d) is amended in the first sentence by removing the words “and the related Customs Form 7512-C (destination)”.

4. Section 123.64(b) is amended in the second sentence by removing the words “and related Customs Form 7512-C (destination)”.

PART 144—WAREHOUSE AND REWAREHOUSE ENTRIES AND WITHDRAWALS

1. The general authority citation for part 144 continues to read as follows:

Authority: 19 U.S.C. 66, 1484, 1557, 1559, 1624.

* * * * *

2. Section 144.37(a) is amended in the first sentence by removing the words “, accompanied by Customs Form 7512-C (Transportation Entry and Manifest of Goods)”.

PART 146—FOREIGN TRADE ZONES

1. The authority citation for part 146 continues to read as follows:

Authority: 19 U.S.C. 66, 81a-81u, 1202 (General Note 20, Harmonized Tariff Schedule of the United States), 1623, 1624.

2. Section 146.68(b) is amended:

a. In the fourth sentence by removing the words “and the destination copy (Customs Form 7512-C)”; and

b. In the last sentence by removing the words “and the origin copy (Customs Form 7512-C)”.

Raymond W. Kelly,
Commissioner of Customs.
Approved: January 24, 2000.
John P. Simpson,
Deputy Assistant Secretary of the Treasury.

[FR Doc. 00-7557 Filed 3-28-00; 8:45 am]

BILLING CODE 4820-02-P